DEPARTMENT OF LABOR

Employment and Training Administration

[TA-W-42,253]

Fleming Lumber Company, Inc., Milligan, FL; Notice of Termination of Investigation

Pursuant to section 221 of the Trade Act of 1974, an investigation was initiated on October 21, 2002, in response to a worker petition filed on the same date by a company official on behalf of workers at Fleming Lumber Company, Inc., Milligan, FL.

The petitioner has requested that the petition be withdrawn. Consequently, further investigation in this case would serve no purpose, and the investigation has been terminated.

Signed in Washington, DC, this 14th day of November 2002
Richard Church,
Certifying Officer, Division of Trade Adjustment Assistance.

[FR Doc. 02-30070 Filed 11-26-02; 8:45 am]

BILLING CODE 4510-30-P